NATIONAL AERONAUTICS AND SPACE ADMINISTRATION

48 CFR Part 1837

Acquisition of Training Services

AGENCY: National Aeronautics and Space Administration (NASA).

ACTION: Proposed rule.

SUMMARY: This proposed rule would amend the NASA FAR Supplement (NFS) by removing Subpart 1837.70—Acquisition of Training, to conform the acquisition of training with FAR Part 6.

DATES: Comments should be submitted on or before September 12, 2000.

ADDRESSES: Interested parties should submit written comments to James H. Dolvin, NASA Headquarters, Office of Procurement, Contract Management Division (Code HK), Washington, DC 20546. Comments may also be submitted by e-mail to: jdolvin1@hq.nasa.gov.

FOR FURTHER INFORMATION CONTACT: James H. Dolvin, (202) 358-1279, or jdolvin1@hq.nasa.gov.

SUPPLEMENTARY INFORMATION:

A. Background

In 1991, Subpart 1837.70—Acquisition of Training, was added to the NFS. Section 1837.7000, Acquisition of off-the-shelf training courses, provided that the Government Employees Training Act of 1958, 5 U.S.C. 4101 et seq., could be used as the authority for acquisition of “non-Governmental off-the-shelf training courses which are available to the public.” Section 1837.7001, Acquisition of new training courses, provided that acquisition of new training courses “developed to fill a specific NASA need” must be conducted in accordance with the FAR. This subpart is being removed because it has caused confusion within NASA about the relevance of the FAR to training service procurement.

B. Regulatory Flexibility Act

NASA certifies that this rule will not have a significant economic impact on a substantial number of small business entities within the meaning of the Regulatory Flexibility Act (5 U.S.C. 601 et seq.) because the deletion of this subpart will not alter the manner in which NASA is required to acquire training.

C. Paperwork Reduction Act

The Paperwork Reduction Act does not apply because the changes to the NFS do not impose recordkeeping or information collection requirements, or collections of information from offerors, contractors, or members of the public which require the approval of the Office of Management and Budget under 44 U.S.C. 3501, et seq.

Tom Luedtke,
Associate Administrator for Procurement.

List of Subjects in 48 CFR Part 1837

Government procurement.

Accordingly, 48 CFR Part 1837 is proposed to be amended as follows:

1. The authority citation for 48 CFR Part 1837 continues to read as follows:

Authority: 42 U.S.C. 2473(c)(1)

PART 1837—SERVICE CONTRACTING

2. Amend Part 1837 by removing Subpart 1837.70.

[FR Doc. 00-17880 Filed 7-13-00; 8:45 am]

BILLING CODE 7510-01-U